DEPARTMENT OF COMMERCE

National Oceanic and Atmospheric Administration

RIN 0648-XE417

Marine Mammals; File No. 19225

AGENCY: National Marine Fisheries Service (NMFS), National Oceanic and Atmospheric Administration (NOAA), Commerce.

ACTION: Notice; receipt of application.

SUMMARY: Notice is hereby given that James D. Darling, Whale Trust, P.O. Box 384, Tofino, BC V0R2Z0 Canada, has applied in due form for a permit to conduct research on humpback whales (Megaptera novaeangliae) and other cetacean and pinniped species.

DATES: Written, telefaxed, or email comments must be received on or before March 7, 2016.

ADDRESSES: The application and related documents are available for review by selecting “Records Open for Public Comment” from the “Features” box on the Applications and Permits for Protected Species (APPS) home page, https://apps.nmfs.noaa.gov, and then selecting File No. 19225 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Rosa L. González or Carrie Hubard, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The applicant proposes to address a variety of questions regarding social organization, behavior, and communication of humpback whales using passive acoustic monitoring, active playbacks, suction cup and dart tagging, biopsy sampling, underwater photography/videography, photo ID and photogrammetry during aerial and vessel surveys. Research would occur off Hawaii (primarily off west Maui), and Alaska. Incidental harassment is requested for the following non-target species: North Pacific right whales (Eubalaena japonica); false killer whales (Pseudorca crassidens); Dall's porpoises (Phocoenoides dalli); spinner (Stenella longirostris), pantropical spotted (S. attenuata), and bottlenose dolphins (Turisiops truncatus); killer whales (Orcinus orca); Hawaiian monk seals (Neomonachus schauinslandi); harbor seals (Phoca vitulina); and Steller sea lions (Eumetopias jubatus). The permit is requested for 5 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: January 29, 2016.
Perry F. Gayaldo,
Deputy Director, Office of Protected Resources, National Marine Fisheries Service.

[FR Doc. 2016-02059 Filed 2-3-16; 8:45 am]

BILLING CODE 3510-22-P